DEPARTMENT OF TRANSPORTATION

National Highway Traffic Safety Administration

[U.S. DOT Docket Number NHTSA-2005-21068]

Reports, Forms, and Recordkeeping Requirements

AGENCY: National Highway Traffic Safety Administration (NHTSA), Department of Transportation.

ACTION: Request for public comment on an extension for collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before July 11, 2005.

ADDRESSES: Comments must refer to the docket notice numbers cited at the beginning of this notice and be submitted to Docket Management, Room PL-401, 400 Seventh Street, SW., Washington, DC 20590. Please identify the proposed collection of information for which a comment is provided, by referencing its OMB Control Number. It is requested, but not required, that 2 copies of the comment be provided. The Docket Section is open on weekdays from 10 a.m. to 5 p.m.

FOR FURTHER INFORMATION CONTACT: Complete copies of each request for collection of information may be obtained at no charge from Mrs. Johanna Lowrie, NHTSA 400 Seventh Street, SW., Room 5311, NVS-111, Washington, DC 20590. Mrs. Lowrie telephone number is (202) 366-5269. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. in submission of responses.

In compliance with these requirements, NHTSA asks for public comments on the following proposed collections of information:

Title: Vehicle Information for the General Public.

OMB Control Number: 2127-0629.

Affected Public: Manufacturers that sell motor vehicles in the United States under 10,000 lbs.

Abstract: NHTSA currently collects vehicle information through the Office of Vehicle Safety Compliance (OVSC) and through the Office of Crashworthiness Standards (OCWS). The information collected by OVSC and OCWS has been useful to the New Car Assessment Program (NCAP) in selecting vehicles for its crash testing programs as well as informing the public of vehicle safety features on the NHTSA Web site (http://www.safercar.gov). The public is still interested not only in crash test results and other vehicle ratings, but is also interested in information on the benefit and availability of safety features. NHTSA also needs safety feature information when it attempts to analyze petitions for rulemaking asking the agency to mandate certain safety features. Therefore the NCAP is asking for an extension of the current Information Collection Request from OCWS (OMB # 2127-0629) “Vehicle Information for the General Public”.

An example of the type of information we propose to collect includes: Specific advanced frontal air bags information that would include the number if air bag deployment stages; technologies air bag deployment is dependent upon; air bag on/off switch information; child restraint anchorages system information; seat belt information that would include pretensioner, load limiters or other energy management systems for the seat belt, seat belt extenders and adjustable upper belt anchorages; dynamic head restraints; side air bag information that would include where the side air bag is mounted, what type of side bag is mounted and whether the side air bags meet the requirements of the recommendations of the Technical Working Group on Out of Position Occupants (TWG); Automatic Door Lock (ADL) information; Electronic Stability Control (ESC); crash avoidance information, anti-theft devices, and Static Stability Rating (SSF) information.

NHTSA will use this information on the NHTSA Web site, in the “Buying a Safer Car” and “Buying a Safer Car for Child Passengers” brochures, other consumer publications, as well as internally for benefit analysis. NHTSA is making this burden easier by sending out formatted electronic files with the information request to facilitate submittal of the data.

Estimated Annual Burden: 924 hours.

Number of Respondents: 21.

Comments are invited on: Whether the extension of the collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: May 6, 2005.
Stephen R. Kratzke,
Associate Administrator for Rulemaking.

[FR Doc. 05-9391 Filed 5-10-05; 8:45 am]

BILLING CODE 4910-59-P